ENVIRONMENTAL PROTECTION AGENCY

40 CFR Parts 52 and 81

[OH132-1; KY116-1;KY84-1; FRL-6562-1]

Approval and Promulgation of Implementation Plans and Designation of Areas for Air Quality Planning Purposes; Ohio and Kentucky; Reopening of the Public Comment Period

AGENCY: Environmental Protection Agency (EPA).

ACTION: Proposed rule; reopening of the public comment period.

SUMMARY: EPA is reopening the public comment period for a proposed rule published on January 24, 2000 (65 FR 3630). In the January 24, 2000 proposed rule, EPA proposed to determine that the Cincinnati-Hamilton moderate ozone nonattainment area (Cincinnati-Hamilton area) has attained the public health based 1-hour ozone National Ambient Air Quality Standard (NAAQS). EPA proposed to determine that certain attainment demonstration requirements, along with certain other related requirements, of part D of Title 1 of the Clean Air Act (CAA) are not applicable to the Cincinnati-Hamilton area. The EPA proposed to approve the State of Ohio Environmental Protection Agency's and the Commonwealth of Kentucky Natural Resources and Environmental Protection Cabinet's requests to redesignate the Cincinnati-Hamilton ozone nonattainment area to attainment of the 1-hour ozone NAAQS. EPA re-proposed to approve an exemption from the nitrogen oxides (NOX) requirements as provided for in section 182(f) of the CAA for the Kentucky portion of the Cincinnati-Hamilton area. EPA solicited public comment on the Ohio and Kentucky requests and on EPA's proposed actions. At the request of the Ohio Chapter of the Sierra Club, EPA is reopening the comment period through March 24, 2000. All comments received before March 24, 2000, including those received between the close of the comment period on February 23, 2000 and the publication of this proposed rule, will be entered into the public record and considered by EPA before taking final action on the proposed rule.

DATES: Comments must be received on or before March 24, 2000.

ADDRESSES: Written comments should be addressed to:

J. Elmer Bortzer, Chief, Regulation Development Section, Air Programs Branch (AR-18J), United States Environmental Protection Agency, 77 West Jackson Boulevard, Chicago, Illinois 60604.

Kay Prince, Chief, Regulatory Planning Section, Air Planning Branch, U.S. Environmental Protection Agency, 61 Forsyth Street, SW, Atlanta, Georgia 30303.

FOR FURTHER INFORMATION CONTACT:

William Jones, Environmental Scientist, Regulation Development Section, Air Programs Branch (AR-18J), United States Environmental Protection Agency, Region 5, Chicago, Illinois 60604, (312) 886-6058, (jones.william@EPA.gov).

Karla L. McCorkle, Environmental Scientist, Regulatory Planning Section, Air Planning Branch, U.S. Environmental Protection Agency, Region 4, 61 Forsyth Street, SW, Atlanta, Georgia, 30303, 404-562-9043, (mccorkle.karla@epa.gov).

Dated: March 10, 2000.
Jerri-Anne Garl,
Acting Regional Administrator, Region 5.

[FR Doc. 00-6713 Filed 3-16-00; 8:45 am]

BILLING CODE 6560-50-U